FEDERAL COMMUNICATIONS COMMISSION

47 CFR Parts 2 and 25

[IB Docket No. 01-185; FCC 03-15]

Flexibility for Delivery of Communications by Mobile Satellite Service Providers in the 2 GHz Band, the L-Band, and the 1.6/2.4 GHz Bands

AGENCY: Federal Communications Commission.

ACTION: Final rule.

SUMMARY: This document is a summary of the Report and Order adopted by the Commission in this proceeding. The Commission permitted certain mobile-satellite service (MSS) providers in the 2 GHz Band, the L-Band, and the 1.6/2.4 GHz Bands to integrate ancillary terrestrial components (ATCs) into their MSS networks. Specifically, MSS operators are allowed to seek authority to integrate ATCs into their networks for the purpose of enhancing their ability to offer high-quality, affordable mobile services on land, in the air and over oceans without using any additional spectrum resources beyond spectrum already allocated and authorized by the Commission for MSS in these bands. The Commission found that permitting MSS ATC in the manner prescribed in the Report and Order should increase the efficiency of spectrum use through MSS network integration and terrestrial reuse and permit better coverage in areas that MSS providers could not otherwise serve; provide additional communications that may enhance public protection; and provide new services in the markets served by MSS. Thus, it concluded that making ATC available to licensed MSS operators serves the public interest.

DATES: Effective July 7, 2003, except for §§ 25.149, 25.252, 25.253, 25.254, which contain information collection requirements that have not been approved by the Office of Management and Budget (OMB). The FCC will publish a document in the Federal Register announcing the effective date for those sections. The incorporation by reference of certain publications listed in § 25.254 will be approved by the Director of the Federal Register as of the effective date announced in the Federal Register. OMB, the general public, and other Federal agencies are invited to comment on the information collection requirements on or before August 4, 2003.

FOR FURTHER INFORMATION: Trey Hanbury, Breck Blalock, or James Ball, Policy Division, International Bureau, (202) 418-1460. For information concerning the information collection(s) contained in this document, contact Judith B. Herman at 202-418-0214, or via the Internet at jboley@fcc.gov.

SUPPLEMENTARY INFORMATION: This is a summary of the Commission's Report and Order in IB Docket No. 01-185, FCC No. 03-15, adopted January 29, 2003, and released on February 3, 2003. The full text of this Commission decision is available for inspection and copying during normal business hours in the FCC Reference Center (Room CY-A257), 445 12th Street, SW., Washington, DC 20554. The document is also available for download over the Internet at http://hraunfoss.fcc.gov/edocs_public/attachmatch/FCC-03-15A1.pdf. The complete text may also be purchased from the Commission's copy contractor, Qualex International, in person at 445 12th Street, SW., Room CY-B402, Washington, DC 20554, via telephone at (202) 863-2893, via facsimile at (202) 863-2898, or via e-mail at qualexint@aol.com.

This Report and Order contains new or modified information collections subject to the Paperwork Reduction Act of 1995 (PRA), Pub. L. 104-3. It will be submitted to the Office of Management and Budget (OMB) for review under section 3507(d) of the PRA. OMB, the general public, and other Federal agencies are invited to comment on the modified information collections contained in this proceeding.

Summary of Report and Order

On August 9, 2001, the Commission adopted a notice of proposed rulemaking in this proceeding (66 FR 47621, September 13, 2001) to obtain comment on proposals to bring flexibility to the delivery of communications by mobile satellite service (MSS) providers. On February 3, 2003, the Commission released a Report and Order and notice of proposed rulemaking in this proceeding. The notice of proposed rulemaking relating to this proceeding is published elsewhere in this issue of the Federal Register. In the Report and Order, the Commission permitted flexibility in the delivery of communications by MSS providers that operate in three sets of radio frequency bands: the 2 GHz MSS band, the L-band and the Big LEO bands. Specifically, we permit MSS licensees to integrate ATCs into their MSS networks. The Commission permits MSS operators to seek authority to integrate ATCs into their networks for the purpose of enhancing their ability to offer high-quality, affordable mobile services on land, in the air and over the oceans without using any additional spectrum resources beyond spectrum already allocated and authorized by the Commission for MSS in these bands. The Commission will authorize MSS ATC subject to conditions that ensure that the added terrestrial component remains ancillary to the principal MSS offering. The Commission does not intend, nor will it permit, the terrestrial component to become a stand-alone service. Permitting MSS ATCs in this manner should: (1) Increase the efficiency of spectrum use through MSS network integration and terrestrial reuse and permit better coverage in areas that MSS providers could not otherwise serve; (2) reduce costs, eliminate inefficiencies and enhance operational ability in MSS systems; (3) provide additional communications that may enhance public protection; and (4) strengthen competition in the markets served by MSS. An Errata was issued on March 7, 2003, to correct minor errors in the text and appendices of the Report and Order. The summary and rules that appear herein reflect the corrected text.

Procedural Matters

Paperwork Reduction Act

This Report and Order contains a new or modified information collection. The Commission, as part of its continuing effort to reduce paperwork burdens, invites the general public to comment on the information collection contained in this Report and Order as required by the Paperwork Reduction Act of 1995, Pub. L. 104-13. Public and agency comments are due August 4, 2003. A copy of any comments on the information collection contained herein should be submitted to Judy Boley, Federal Communications Commission, In addition to filing comments with the Secretary, a copy of any comments on the information collections contained herein should be submitted to Judy Boley, Federal Communications Commission, Room 1-C804, 445 12th Street, SW., Washington, DC 20554, or via the Internet to jboley@fcc.gov, and to Kim A. Johnson, OMB Desk Officer, Room 10236 NEOB, 725 17th Street, NW., Washington, DC 20503 or via the Internet to Kim_A._Johnson@omb.eop.gov.

Final Regulatory Flexibility Act Certification

The Regulatory Flexibility Act of 1980, as amended (RFA), requires that a regulatory flexibility analysis be prepared for notice-and-comment rule making proceedings, unless the agency certifies that “the rule will not, if promulgated, have a significant economic impact on a substantial number of small entities.” See 5 U.S.C. 601-612, the RFA has been amended by the Small Business Regulatory Enforcement Fairness Act of 1996 (SBREFA), Public Law No. 104-121, title II, 110 Stat. 857 (1996). The RFA generally defines the term “small entity” as having the same meaning as the terms “small business,” “small organization,” and “small governmental jurisdiction.” In addition, the term “small business” has the same meaning as the term “small business concern” under the Small Business Act. See 5 U.S.C. 601(3) (incorporating by reference the definition of “small-business concern” in the Small Business Act, 15 U.S.C. 632). Pursuant to 5 U.S.C. 601(3), the statutory definition of a small business applies “unless an agency, after consultation with the Office of Advocacy of the Small Business Administration and after opportunity for public comment, establishes one or more definitions of such term which are appropriate to the activities of the agency and publishes such definition(s) in the Federal Register.” A “small business concern” is one which: (1) Is independently owned and operated; (2) is not dominant in its field of operation; and (3) satisfies any additional criteria established by the U.S. Small Business Administration (SBA). See 15 U.S.C. 632. The SBA has developed a small business size standard for Satellite Telecommunications, which consists of all such companies having $12.5 million or less in annual revenue. See 13 CFR 121.201, NAICS code 517410.

Pursuant to the RFA, the Commission incorporated an Initial Regulatory Flexibility Analysis (IRFA) into the Flexibility NPRM. (Flexibility Notice, 16 FCC Rcd at 15565-67, paragraphs 85-93.) We received no comments in response to the IRFA. For the reasons described below, we now certify that the policies and rules adopted in the present Flexibility Order will not have a significant economic impact on a substantial number of small entities.

The Flexibility Order provides additional operational flexibility for MSS providers that operate in three sets of radio frequency bands: the 2 GHz MSS band, the L-band, and the Big LEO bands. The flexibility consists of permitting the MSS providers to integrate ancillary terrestrial components (ATC) into their networks. We find that providing this flexibility will have no significant economic impact on small entities because the MSS operators will not be required to make use of the additional capability. We believe that permitting the additional flexibility will enhance the ability of MSS operators to offer American consumers high quality, affordable mobile services on land, in the air, and over the oceans without using spectrum resources beyond the spectrum already allocated and authorized for MSS use in these bands. Operational flexibility will: (1) Increase efficient spectrum use through MSS network integration and terrestrial reuse; (2) reduce costs, eliminate inefficiencies, and enhance operational ability in MSS systems; (3) encourage technological innovation and the development of new wireless applications; and (4) strengthen competition in the telecommunications marketplace both in the United States and in other nations. We implement the Flexibility Order through the addition of a footnote to the U.S. Table of Frequency Allocations, found in § 2.106 of our rules, 47 CFR 2.106.

We also find that our action—which brings additional flexibility to existing MSS licensees—will not affect a substantial number of small entities. There are currently five 2 GHz MSS licensees, two Big LEO MSS licensees and three L-band MSS licensees authorized to provide service in the United States. Although at least one of the 2 GHz MSS system licensees and one of the Big LEO licensees are small businesses, small businesses often do not have the financial ability to become MSS system operators because of the high implementation costs associated with satellite systems and services. We expect that, by the time of MSS ATC system implementation, these current small businesses will no longer be considered small due to the capital requirements for launching and operating a proposed system.

Ordering Clauses

It is ordered that, pursuant to sections 4(i), 7, 302, 303(c), 303(e), 303(f) and 303(r) of the Communications Act of 1934, as amended, 47 U.S.C. sections 154(i), 157, 302, 303(c), 303(e), 303(f) and 303(r), this Report and Order is adopted and that part 25 of the Commission's rules is amended, as specified in the rule changes, effective August 4, 2003.

It is further ordered that the petition for rulemaking filed by Iridium Satellite LLC is granted in part to the extent described above and is denied in all other respects.

It is further ordered that the Regulatory Flexibility Analysis, as required by section 604 of the Regulatory Flexibility Act and as set forth in Appendix D of the Report and Order, is adopted.

It is further ordered that the Regulatory Flexibility Analysis, as required by section 604 of the Regulatory Flexibility Act and as set forth in Appendix D of the Report and Order, is adopted.

It is further ordered that the Commission's Consumer Information Bureau, Reference Information Center, shall send a copy of this Report and Order, including the Final Regulatory Flexibility Analysis, to the Chief Counsel for Advocacy of the Small Business Administration.

List of Subjects in 47 CFR Parts 2 and 25

Incorporation by reference, Radio, Satellites, Telecommunications.

Federal Communications Commission.
Marlene H. Dortch,
Secretary.

Rule Changes

For the reasons set forth in the preamble, the Federal Communications Commission amends 47 CFR parts 2 and 25 as follows:

PART 2—FREQUENCY ALLOCATIONS AND RADIO TREATY MATTERS; GENERAL RULES AND REGULATIONS

1. The authority citation for part 2 continues to read as follows:

Authority: 47 U.S.C. 154, 302a, 303, and 336, unless otherwise noted.

2. Section 2.106 is amended by revising pages 43, 44, 45, 46, 48, 49, and 52 of the Table of Frequency Allocations and adding footnote US380 to the list of United States (US) Footnotes, to read as follows:

§ 2.106 Table of Frequency Allocations.

BILLING CODE 6712-01-P

BILLING CODE 6712-01-C

* * * * *

United States (US) Footnotes

* * * * *

US380 In the bands 1525-1544 MHz, 1545-1559 MHz, 1610-1645.5 MHz, 1646.5-1660.5 MHz, 2000-2020 MHz, 2180-2200 MHz, and 2483.5-2500 MHz, a non-Federal Government licensee in the mobile-satellite service (MSS) may also operate an ancillary terrestrial component in conjunction with its MSS network, subject to the Commission's rules for ancillary terrestrial components and subject to all applicable conditions and provisions of its MSS authorization.

* * * * *

PART 25—SATELLITE COMMUNICATIONS

3. The authority citation for part 25 continues to read as follows:

Authority: 47 U.S.C. 701-744. Interprets or applies sec. 303, 47 U.S.C. 303. 47 U.S.C. sections 154, 301, 302, 303, 307, 309 and 332, unless otherwise noted.

4. Section 25.117 is amended by adding paragraph (f) to read as follows:

§ 25.117 Modification of station license.

* * * * *

(f) An application for modification of a space station license to add an ancillary terrestrial component to an eligible satellite network will be treated as a request for a minor modification if the particulars of operations provided by the applicant comply with the criteria specified in § 25.149.

5. Section 25.143 is amended by adding paragraphs (i), (j), and (k) to read as follows:

§ 25.143 Licensing provisions for the 1.6/2.4 GHz mobile-satellite service and the 2 GHz mobile-satellite service.

* * * * *

(i) Incorporation of ancillary terrestrial component base stations into a 1.6/2.4 GHz mobile-satellite service network or a 2 GHz mobile-satellite service network. Any licensee authorized to construct and launch a 1.6/2.4 GHz or a 2 GHz mobile-satellite system may construct ancillary terrestrial component (ATC) base stations as defined in § 25.201 at its own risk and subject to the conditions specified in this subpart any time after commencing construction of the mobile-satellite service system.

(j) Pre-operational testing. An MSS ATC licensee may, without further authority from the Commission, conduct equipment tests for the purpose of making such adjustments and measurements as may be necessary to assure compliance with the terms of the technical provisions of its MSS license, its ATC authorization, the rules and regulations in this part and the applicable engineering standards. An MSS licensee may not offer ATC service to the public for compensation during pre-operational testing. In order to operate any ATC base stations, such a licensee must meet all the requirements set forth in § 25.149 and must have been granted ATC authority through a modification of its space station license.

(k) Aircraft. ATC mobile terminals must be operated in accordance with § 25.136(a). All portable or hand-held transceiver units (including transceiver units installed in other devices that are themselves portable or hand-held) having operating capabilities in the 2000-2020/2180-2200 MHz or 1610-1626.5 MHz/2483.5-2500 MHz bands shall bear the following statement in a conspicuous location on the device: “This device may not be operated while on board aircraft. It must be turned off at all times while on board aircraft.”

6. Section 25.146 is amended by revising the section heading and paragraphs (g), (h), and (i) to read as follows:

§ 25.146 Licensing provisions for the L-Band mobile-satellite service.

* * * * *

(g) Incorporation of ancillary terrestrial component base station into an L-band Mobile-Satellite Service System. Any licensee authorized to construct and launch an L-band mobile-satellite system may construct ancillary terrestrial component (ATC) base stations as defined in § 25.201 at its own risk and subject to the conditions specified in this subpart any time after commencing construction of the mobile-satellite service system.

(h) Pre-operational testing. An MSS ATC licensee may, without further authority from the Commission, conduct equipment tests for the purpose of making such adjustments and measurements as may be necessary to assure compliance with the terms of the technical provisions of its MSS license, its ATC authorization, the rules and regulations in this part and the applicable engineering standards. An MSS licensee may not offer ATC service to the public for compensation during pre-operational testing. In order to operate any ATC base stations, such a licensee must meet all the requirements set forth in § 25.147 and must have been granted ATC authority through a modification of its space station license.

(i) Aircraft. All portable or hand-held transceiver units (including transceiver units installed in other devices that are themselves portable or hand-held) having operating capabilities in the 1626.5-1660.5 MHz and 1525-1559 MHz bands shall bear the following statement in a conspicuous location on the device: “This device may not be operated while on board aircraft. It must be turned off at all times while on board aircraft.”

* * * * *

7. Section 25.149 is added to read as follows:

§ 25.149 Application requirements for ancillary terrestrial components in the mobile-satellite service networks operating in the 1.5./1.6 GHz, 1.6/2.4 GHz and 2 GHz mobile-satellite service.

(a) Applicants for ancillary terrestrial component authority shall demonstrate compliance with the following through certification or explanatory technical exhibit, as appropriate:

(1) ATC shall be deployed in the forward-band mode of operation whereby the ATC mobile terminals transmit in the MSS uplink bands and the ATC base stations transmit in the MSS downlink bands in portions of the 2000-2020 MHz/2180-2200 MHz bands (2 GHz band), the 1626.5-1660.5 MHz/1525-1559 MHz bands (L-band), and the 1610-1626.5 MHz/2483.5-2500 MHz bands (Big LEO band).

(2)ATC operations shall be limited to certain frequencies:

(i) In the 2000-2020 MHz/2180-2200 MHz bands (2 GHz MSS band), ATC operations are limited to the selected assignment of the 2 GHz MSS licensee that seeks ATC authority.

(ii) In the 1626.5-1660.5 MHz/1525-1559 MHz bands (L-band), ATC operations are limited to the frequency assignments authorized and internationally coordinated for the MSS system of the MSS licensee that seeks ATC authority.

(iii) In the 1610-1626.5 MHz/2483.5-2500 MHz bands (Big LEO band), ATC operations are limited to the 1610-1615.5 MHz, 1621.35-1626.5 MHz, and 2492.5-2498.0 MHz bands and to the specific frequencies authorized for use by the MSS licensee that seeks ATC authority.

(3) ATC operations shall not exceed the geographical coverage area of the mobile-satellite service network of the applicant for ATC authority.

(4) ATC base stations shall comply with all applicable antenna and structural clearance requirements established in part 17 of the Commission's rules.

(5) ATC base stations and mobile terminals shall comply with part 1 of the Commission's rules, Subpart I—Procedures Implementing the National Environmental Policy Act of 1969, including the guidelines for human exposure to radio frequency electromagnetic fields as defined in §§ 1.1307(b) and 1.1310 of this chapter for PCS networks.

(6) ATC base station operations shall use less than all available MSS frequencies when using all available frequencies for ATC base station operations would exclude otherwise available signals from MSS space-stations.

(b) Applicants for an ancillary terrestrial component shall demonstrate compliance with the following criteria through certification:

(1) Geographic and temporal coverage. (i) For the 2 GHz MSS band, an applicant must demonstrate that it can provide space-segment service covering all 50 states, Puerto Rico, and the U.S. Virgin Islands one-hundred percent of the time, consistent with the coverage requirements for 2 GHz MSS GSO operators.

(ii) For the L-band, an applicant must demonstrate that it can provide space-segment service covering all 50 states, Puerto Rico, and the U.S. Virgin Islands one-hundred percent of the time, unless it is not technically possible for the MSS operator to meet the coverage criteria from its orbital position.

(iii) For the Big LEO band, an applicant must demonstrate that it can provide space-segment service: to all locations as far north as 70° North latitude and as far south as 55° South latitude for at least seventy-five percent of every 24-hour period, i.e., that at least one satellite will be visible above the horizon at an elevation angle of at least 5° for at least 18 hours each day; and on a continuous basis throughout the fifty states, Puerto Rico and the U.S. Virgin Islands, i.e., that at least one satellite will be visible above the horizon at an elevation angle of at least 5° at all times.

(2) Replacement satellites. (i) Operational NGSO MSS ATC systems shall maintain an in-orbit spare satellite.

(ii) Operational GSO MSS ATC systems shall maintain a spare satellite on the ground within one year of commencing operations and launch it into orbit during the next commercially reasonable launch window following a satellite failure.

(iii) All MSS ATC licensees must report any satellite failures, malfunctions or outages that may require satellite replacement within ten days of their occurrence.

(3) Commercial availability. Mobile-satellite service must be commercially available (viz., offering services for a fee) in accordance with the coverage requirements that pertain to each band as a prerequisite to an MSS licensee's offering ATC service.

(4) Integrated services. MSS ATC licensees shall offer an integrated service of MSS and MSS ATC. Applicants for MSS ATC may establish an integrated service offering by affirmatively demonstrating that:

(i) The MSS ATC operator will use a dual-mode handset that can communicate with both the MSS network and the MSS ATC component to provide the proposed ATC service; or

(ii) Other evidence establishing that the MSS ATC operator will provide an integrated service offering to the public.

(5) In-band operation. (i) In the 2 GHz MSS band, MSS ATC is limited to an MSS licensee's selected assignment. MSS ATC operations on frequencies beyond the MSS licensee's selected assignment are prohibited.

(ii) In the Big LEO band, MSS ATC is limited to no more than 5.5 MHz of spectrum in each direction of operation. Licensees in these bands may implement ATC only on those channels on which MSS is authorized, consistent with the Big LEO band-sharing arrangement.

(iii) In the L-band, MSS ATC is limited to those frequency assignments available for MSS use in accordance with the Mexico City Memorandum of Understanding, its successor agreements or the result of other organized efforts of international coordination.

(c) Equipment certification. (1) Each ATC MET utilized for operation under this part and each transmitter marketed, as set forth in § 2.803 of this chapter, must be of a type that has been authorized by the Commission under its certification procedure for use under this part.

(2) Any manufacturer of radio transmitting equipment to be used in these services may request equipment authorization following the procedures set forth in subpart J of part 2 of this chapter. Equipment authorization for an individual transmitter may be requested by an applicant for a station authorization by following the procedures set forth in part 2 of this chapter.

(3) Licensees and manufacturers are subject to the radiofrequency radiation exposure requirements specified in §§ 1.1307(b), 2.1091 and 2.1093 of this chapter, as appropriate. MSS ATC base stations must comply with the requirements specified in § 1.1307(b) of this chapter for PCS base stations. MSS ATC mobile terminals must comply with the requirements specified for mobile and portable PCS transmitting devices in § 1.1307(b) of this chapter. MSS ATC mobile terminals must also comply with the requirements in §§ 2.1091 and 2.1093 of this chapter for Satellite Communications Services devices. Applications for equipment authorization of mobile or portable devices operating under this section must contain a statement confirming compliance with these requirements for both fundamental emissions and unwanted emissions. Technical information showing the basis for this statement must be submitted to the Commission upon request.

(d) Applicants for an ancillary terrestrial component authority shall demonstrate compliance with the provisions of §§ 1.924 of this chapter and 25.203(e) through (g) and with §§ 25.252, 25.253, or 25.254, as appropriate, through certification or explanatory technical exhibit.

(e) Upon receipt of ATC authority, all ATC licensees must ensure continued compliance with this section and §§ 25.252, 25.253, or 25.254, as appropriate.

8. Section 25.201 is amended by adding the following definitions in alphabetical order to read as follows:

§ 25.201 Definitions.

* * * * *

Ancillary terrestrial component. The term “ancillary terrestrial component” means a terrestrial communications network used in conjunction with a qualifying satellite network system authorized pursuant to these rules and the conditions established in the Report and Order issued in IB Docket 01-185, Flexibility for Delivery of Communications by Mobile Satellite Service Providers in the 2 GHz Band, the L-Band, and the 1.6/2.4 GHz Band.

Ancillary terrestrial component base station. The term “ancillary terrestrial component base station” means a terrestrial fixed facility used to transmit communications to or receive communications from one or more ancillary terrestrial component mobile terminals.

Ancillary terrestrial component mobile terminal. The term “ancillary terrestrial component mobile terminal” means a terrestrial mobile facility used to transmit communications to or receive communications from an ancillary terrestrial component base station or a space station.

* * * * *

Selected assignment. The term “selected assignment” means a spectrum assignment voluntarily identified by a 2 GHz MSS licensee at the time that the licensee's first 2 GHz mobile-satellite service satellite reaches its intended orbit, or other mobile-satellite service spectrum in which the Commission permits a 2 GHz mobile-satellite service licensee to conduct mobile-satellite service operations with authority superior to that of other in-band, mobile-satellite service licensees.

* * * * *

Structural attenuation. The term “structural attenuation” means the signal attenuation caused by transmitting to and from mobile terminals which are located in buildings or other man-made structures that attenuate the transmission of radiofrequency radiation.

* * * * *

9. Section 25.252 is added to read as follows:

§ 25.252 Special requirements for ancillary terrestrial components operating in the 2000-2020 MHz/2180-2200 MHz bands.

(a) Applicants for an ancillary terrestrial component in these bands must demonstrate that ATC base stations shall not:

(1) Exceed an EIRP of −100.6 dBW/4 kHz for out-of-channel emissions at the edge of the MSS licensee's selected assignment.

(2) Exceed a peak EIRP of 27 dBW in 1.23 MHz.

(3) Exceed an EIRP toward the physical horizon (not to include man-made structures) of 25.5 dBW in 1.23 MHz.

(4) Be located less than 190 meters from all airport runways and aircraft stand areas, including takeoff and landing paths.

(5) Exceed an aggregate power flux density of −51.8 dBW/m² in a 1.23 MHz bandwidth at all airport runways and aircraft stand areas, including takeoff and landing paths and all ATC base station antennas shall have an overhead gain suppression according to the following.

(6) Be located less than 820 meters from a U.S. Earth Station facility operating in the 2200-2290 MHz band. In its MSS ATC application, the MSS licensee should request a list of operational stations in the 2200-2290 MHz band.

(7) Exceed an EIRP in the 1559-1610 MHz band of −70 dBW/MHz for wideband emissions and −80 dBW in the 1559-1605 MHz band for narrow-band emissions (discrete emissions of less than 700 Hz bandwidth). The wideband EIRP level is to be measured using a root mean square (RMS) detector function with a resolution bandwidth of 1 MHz or equivalent and the video bandwidth is not less than the resolution bandwidth. The narrowband EIRP level is to be measured using an RMS detector function with a resolution bandwidth of 1 kHz or equivalent. The measurements are to be made over a 20 millisecond averaging period when the base station is transmitting.

(8) Use ATC base station antennas that have a gain greater than 17 dBi and must have an overhead gain suppression according to the following:

Angle from direction of maximum gain, in vertical plane, above antenna (degrees) | Antenna discrimination pattern (dB)
0 | Gmax
2 | Not to Exceed Gmax −14
8 to 180 | Not to Exceed Gmax −25
Where: Gmax is the maximum gain of the base station antenna in dBi.

(b) Applicants for an ancillary terrestrial component in these bands must demonstrate that ATC mobile terminals shall:

(1) Observe a peak EIRP limit of 1.0 dBW in 1.23 MHz.

(2) Limit out-of-channel emissions at the edge of a MSS licensee's selected assignment to an EIRP density of −67 dBW/4 kHz.

(3) Not exceed an EIRP in the 1559-1610 MHz band of −70 dBW/MHz for wideband emissions and −80 dBW in the 1559-1605 MHz band for narrow-band emissions (discrete emissions of less than 700 Hz bandwidth). The wideband EIRP level is to be measured using a root mean square (RMS) detector function with a resolution bandwidth of 1 MHz or equivalent and the video bandwidth is not less than the resolution bandwidth. The narrowband EIRP level is to be measured using an RMS detector function with a resolution bandwidth of 1 kHz or equivalent. The measurements are to be made over a 20 millisecond averaging period when the mobile terminal is transmitting.

(c) For ATC operations in the 2000-2020 MHz band, the power of any emission outside the licensee's frequency band(s) of operation shall be attenuated below the transmitter power (P) within the licensed band(s) of operation, measured in watts, in accordance with the following:

(1) On any frequency within the 2000 to 2020 MHz band outside the licensee's frequency band(s) of operations, emissions shall be attenuated by at least 43 + 10 log (P) dB.

(2) Emissions on frequencies lower than 1995 MHz and higher than 2025 MHz shall be attenuated by at least 70 + 10 log P. Emissions in the bands 1995-2000 MHz and 2020-2025 MHz shall be attenuated by at least a value as determined by linear interpolation from 70 + 10 log P at 1995 MHz or 2025 MHz, to 43 + 10 log P dB at the nearest MSS band edge at 2000 MHz or 2020 MHz respectively.

(3) When an emission outside of the authorized bandwidth causes harmful interference, the Commission may, in its discretion, require greater attenuation than specified in paragraphs (c)(1) and (2) of this section.

(4) Compliance with these provisions is based on the use of measurement instrumentation employing a resolution bandwidth of 1 megahertz or greater.

Note to § 25.252: The preceding rules of § 25.252 are based on cdma2000 system architecture. To the extent that a 2 GHz MSS licensee is able to demonstrate that the use of a different system architecture would produce no greater potential interference than that produced as a result of implementing the rules of this section, an MSS licensee is permitted to apply for ATC authorization based on another system architecture.

10. Section 25.253 is added to read as follows:

§ 25.253 Special requirements for ancillary terrestrial components operating in the 1626.5-1660.5 MHz/1525-1559 MHz bands.

(a) An applicant for an ancillary terrestrial component in these bands shall:

(1) Implement the maximum available power control for all ATC base stations and mobile terminals under GSM 800 or GSM 1800 standard (dynamic range of 30 dB in steps of 2 dB).

(2) Implement a variable rate vocoder in the ATC mobile terminal such that the duty cycle of the mobile terminal is reduced when the EIRP of the mobile terminals requested by the power control system is increased above a nominal−7.4 dBW. The duty cycle will be reduced by refraining from transmitting on consecutive time slots. The duty cycle of the mobile terminal, as measured over a 0.25 second period, shall comply with the following schedule:

Nominal mobile terminal peak EIRP | Mobile terminal transmit duty cycle (percent)
Equal to or less than −7.4 dBW | 100
Greater than −7.4 dBW | 50
Greater than −4.4 dBW | 25
Greater than −1.4 dBW | 20
Greater than −0.4 dBW | 18.2

(3) Implement the provisions of paragraph (a)(2) of this section in a manner that precludes other ATC mobile terminals from using the open time slots.

(4) Demonstrate, at the time of application, how the ATC network will comply with the requirements of paragraphs (a) and (b)(1) through (b)(3) of this section.

(5) Demonstrate, at the time of application, how its ATC network will comply with the requirements of footnotes US308 and US315 to the table of frequency allocations contained in § 2.106 of this chapter regarding priority and preemptive access to the L-band MSS spectrum by the aeronautical mobile-satellite en-route service (AMS(R)S) and the global maritime distress and safety system (GMDSS).

(6) Demonstrate how its ATC network base stations and mobile terminals will comply with the Global Mobile Personal Communications by Satellite (GMPCS) system requirements to protect the radionavigation satellite services (RNSS) operations in the allocation above 1559 MHz.

(7) Coordinate with the terrestrial CMRS operators prior to initiating ATC transmissions when co-locating ATC base stations with terrestrial commercial mobile radio service (CMRS) base stations that make use of Global Positioning System (GPS) time-based receivers.

(8) Demonstrate that the cellular structure of the ATC network design includes 18 dB of link margin allocated to structural attenuation. If less structural attenuation is used, the maximum number of base stations permitted under paragraph (c) of this section must be reduced or a showing must be made that there would be no increase in interference to other MSS operators and that the applicant's satellite would continue to meet the other requirements of this section.

(b) ATC base stations shall not exceed an out-of-channel emissions measurement of −57.9 dBW/MHz at the edge of a MSS licensee's authorized and internationally coordinated MSS frequency assignment.

(c) The maximum number of base stations operating in the U.S. on any one 200 kHz channel shall not exceed 1725. During the first 18 months following activation for testing of the first ATC base station, the L-band ATC operator shall not implement more than 863 base stations on the same 200 kHz channel. L-band ATC operators shall notify the Commission of the date of the activation for testing of the first ATC base station and shall maintain a record of the total number of ATC base stations operating in the U.S. on any given 200 kHz of spectrum. Upon request by the Commission, L-band ATC operators shall provide this information to resolve any claim it receives from an L-band MSS operator that ATC operations are causing interference to its MSS system.

(d) Applicants for an ancillary terrestrial component in these bands must demonstrate that ATC base stations shall not:

(1) Exceed peak EIRP of 19.1 dBW, in 200 kHz, per carrier with no more than three carriers per sector;

(2) Exceed an EIRP toward the physical horizon (not to include man-made structures) of 14.1 dBW per carrier in 200 kHz;

(3) Locate any ATC base station less than 470 meters from all airport runways and aircraft stand areas, including takeoff and landing paths;

(4) Exceed an aggregate power flux density level of −73.0 dBW/m²/200 kHz at the edge of all airport runways and aircraft stand areas, including takeoff and landing paths;

(5) Locate any ATC base station less than 1.5 km from the boundaries of all navigable waterways or the ATC base stations shall not exceed a power flux density level of −64.6 dBW/m²/200 kHz at the water's edge of any navigable waterway;

(6) Exceed a peak antenna gain of 16 dBi;

(7) Exceed an EIRP in the 1559-1605 MHz band of −70 dBW/MHz for wideband emissions and −80 dBW for narrowband emissions (discrete emissions of less than 700 Hz bandwidth). The ATC station shall not exceed an EIRP in the 1605-1610 MHz frequency range that is determined by the linear interpolation from −70 dBW/MHz at 1605 MHz to −10 dBW/MHz at 1610 MHz for wideband emissions. The wideband EIRP level is to be measured using a root mean square (RMS) detector function with a resolution bandwidth of 1 MHz or equivalent and the video bandwidth is not less than the resolution bandwidth. The narrowband EIRP level is to be measured using an RMS detector function with a resolution bandwidth of 1 kHz or equivalent. The measurements are to be made over a 20 millisecond averaging period when the base station is transmitting.

(e) Applicants for an ancillary terrestrial component in these bands must demonstrate, at the time of the application, that ATC base stations shall use left-hand-circular polarization antennas with a maximum gain of 16 dBi and overhead gain suppression according to the following:

Angle from direction of maximum gain, in vertical plane, above antenna (degrees) | Antenna discrimination pattern (dB)
0 | Gmax
5 | Not to Exceed Gmax −5
10 | Not to Exceed Gmax −19
15 to 30 | Not fo Exceed Gmax −27
30 to 55 | Not to Exceed Gmax −35
55 to 145 | Not to Exceed Gmax −40
145 to 180 | Not to Exceed Gmax −26
Where: Gmax is the maximum gain of the base station antenna in dBi.

(f) Prior to operation, ancillary terrestrial component licensees shall:

(1) Provide the Commission with sufficient information to complete coordination of ATC base stations with Search-and-Rescue Satellite-Aided Tracking (SARSAT) earth stations operating in the 1544-1545 MHz band for any ATC base station located either within 27 km of a SARSAT station, or within radio horizon of the SARSAT station, whichever is less.

(2) Take all practicable steps to avoid locating ATC base stations within radio line of sight of MAT receive sites in order to protect U.S. MAT systems consistent with ITU-R Recommendation ITU-R M.1459. MSS ATC base stations located within radio line of sight of a MAT receiver must be coordinated with the Aerospace and Flight Test Radio Coordinating Council (AFTRCC) for non-Government MAT receivers on a case-by-case basis prior to operation. For government MAT receivers, the MSS licensee shall supply sufficient information to the Commission to allow coordination to take place. A listing of current and planned MAT receiver sites can be obtained from AFTRCC for non-Government sites and through the FCC's IRAC Liaison for Government MAT receiver sites.

(g) Applicants for an ancillary terrestrial component in these bands must demonstrate that ATC mobile terminals shall:

(1) Be limited to a peak EIRP level of 0 dBW and an out-of-channel emissions of −67dBW/4 kHz at the edge of an MSS licensee's authorized and internationally coordinated MSS frequency assignment.

(2) Take all practicable steps to avoid ATC mobile terminals from causing interference to U.S. radio astronomy service (RAS) observations in the 1660-1660.5 MHz band.

(3) Not exceed an EIRP in the 1559-1605 MHz band of −70 dBW/MHz for wideband emissions and −80 dBW for narrowband emissions (discrete emissions of less than 700 Hz bandwidth). The ATC station shall not exceed an EIRP in the 1605-1610 MHz frequency range that is determined by the linear interpolation from −70 dBW/MHz at 1605 MHz to −10 dBW/MHz at 1610 MHz for wideband emissions. The wideband EIRP level is to be measured using a root mean square (RMS) detector function with a resolution bandwidth of 1 MHz or equivalent and the video bandwidth is not less than the resolution bandwidth. The narrowband EIRP level is to be measured using an RMS detector function with a resolution bandwidth of 1 kHz or equivalent. The measurements are to be made over a 20 millisecond averaging period when the mobile terminal is transmitting.

Note to § 25.253: The preceding rules of § 25.253 are based on GSM/TDMA 800 or GSM 1800 system architecture. To the extent that an L-band MSS licensee is able to demonstrate that the use of a different system architecture would produce no greater potential interference than that produced as a result of implementing the rules of this section, an MSS licensee is permitted to apply for ATC authorization based on another system architecture.

11. Section 25.254 is added to read as follows:

§ 25.254 Special requirements for ancillary terrestrial components operating in the 1610-1626.5 MHz/2483.5-2500 MHz bands.

(a) An applicant for an ancillary terrestrial component in these bands must demonstrate that ATC base stations shall:

(1) Not exceed a peak EIRP of 32 dBW in 1.25 MHz;

(2) Not cause unacceptable interference to systems identified in paragraph (c) of this section and, in any case, shall not exceed out-of-channel emissions of −44.1 dBW/30 kHz at the edge of the MSS licensee's authorized frequency assignment;

(3)At the time of application, that it has taken, or will take steps necessary to avoid causing interference to other services sharing the use of the 2450-2500 MHz band through frequency coordination; and

(4)Not exceed an EIRP in the 1559-1605 MHz band of −70 dBW/MHz for wideband emissions and −80 dBW for narrowband emissions (discrete emissions of less than 700 Hz bandwidth). The ATC station shall not exceed an EIRP in the 1605-1610 MHz frequency range that is determined by the linear interpolation from −70 dBW/MHz at 1605 MHz to −10 dBW/MHz at 1610 MHz for wideband emissions. The wideband EIRP level is to be measured using a root mean square (RMS) detector function with a resolution bandwidth of 1 MHz or equivalent and the video bandwidth is not less than the resolution bandwidth. The narrowband EIRP level is to be measured using an RMS detector function with a resolution bandwidth of 1 kHz or equivalent. The measurements are to be made over a 20 millisecond averaging period when the base station is transmitting.

(b) An applicant for an ancillary terrestrial component in these bands must demonstrate that mobile terminals shall:

(1) Meet the requirements contained in § 25.213 to protect radio astronomy service (RAS) observations in the 1610.6-1613.8 MHz band from unacceptable interference;

(2) Observe a peak EIRP limit of 1.0 dBW in 1.25 MHz;

(3) Observe an out-of-channel EIRP limit of −57.1 dBW/30 kHz at the edge of the licensed MSS frequency assignment.

(4) Not exceed an EIRP in the 1559-1605 MHz band of −70 dBW/MHz for wideband emissions and −80 dBW for narrowband emissions (discrete emissions of less than 700 Hz bandwidth). The ATC station shall not exceed an EIRP in the 1605-1610 MHz frequency range that is determined by the linear interpolation from −70 dBW/MHz at 1605 MHz to −10 dBW/MHz at 1610 MHz for wideband emissions. The wideband EIRP level is to be measured using a root mean square (RMS) detector function with a resolution bandwidth of 1 MHz or equivalent and the video bandwidth is not less than the resolution bandwidth. The narrowband EIRP level is to be measured using an RMS detector function with a resolution bandwidth of 1 kHz or equivalent. The measurements are to be made over a 20 millisecond averaging period when the mobile terminal is transmitting.

(c) Applicants for an ancillary terrestrial component to be used in conjunction with a mobile-satellite service system using CDMA technology shall coordinate the use of the Big LEO MSS spectrum designated for CDMA systems using the framework established by the ITU in Recommendation ITU-R M.1186 “Technical Considerations for the Coordination Between Mobile Satellite Service (MSS) Networks Utilizing Code Division Multiple Access (CDMA) and Other Spread Spectrum Techniques in the 1-3 GHz Band” (1995). Recommendation ITU-R M.1186 is incorporated by reference. The Director of the Federal Register approves this incorporation by reference in accordance with 5 U.S.C. 552(a) and 1 CFR part 51. Copies of this standard can be inspected at the Federal Communications Commission, 445 12th Street, SW., Washington, DC (Reference Information Center) or at the Office of the Federal Register, 800 North Capitol Street, NW., Suite 700, Washington, DC. The ITU-R Recommendations can also be purchased from the International Telecommunication Union (ITU), Place des Nations, CH-1211 Geneva 20, Switzerland.

Note to § 25.254: The preceding rules of § 25.254 are based on cdma2000 and IS-95 system architecture. To the extent that a Big LEO MSS licensee is able to demonstrate that the use of different system architectures would produce no greater potential interference than that produced as a result of implementing the rules of this section, an MSS licensee is permitted to apply for ATC authorization based on another system architecture.

12. Section 25.255 is added to read as follows:

§ 25.255 Procedures for resolving harmful interference related to operation of ancillary terrestrial components operating in the 1.5./1.6 GHz, 1.6/2.4 GHz and 2 GHz bands.

If harmful interference is caused to other services by ancillary MSS ATC operations, either from ATC base stations or mobile terminals, the MSS ATC operator must resolve any such interference. If the MSS ATC operator claims to have resolved the interference and other operators claim that interference has not been resolved, then the parties to the dispute may petition the Commission for a resolution of their claims.

[FR Doc. 03-14081 Filed 6-4-03; 8:45 am]

BILLING CODE 6712-01-P